FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
018763F | Dietrich-Exccel, LLC dba Dietrich-Logistics Florida, 6701 NW 7th Street, Suite 135, Miami, FL 33126 | April 9, 2006.
018184N | JP Express Shipping, Corp., 1894 Washington Avenue, Bronx, NY 10457 | May 4, 2006.
019407N | James Worldwide, Inc., 550 E. Carson Plaza Drive, Suite 123, Carson, CA 90746 | April 28, 2006.
017975N | Johnny Air Cargo Inc., 69-40 Roosevelt Avenue, Woodside, NY 11377 | April 30, 2006.
018218N | Pacheco Express Shipping Inc., 1570 Webster Avenue, Bronx, NY 10457 | April 30, 2006.

Peter J. King,
Deputy Director, Bureau of Certification and Licensing.

[FR Doc. E6-8834 Filed 6-6-06; 8:45 am]

BILLING CODE 6730-01-P